DEPARTMENT OF AGRICULTURE

Food and Nutrition Service

7 CFR Part 210, 215, 220, and 226

RIN 0584-AE81

Child Nutrition Programs: Transitional Standards for Milk, Whole Grains, and Sodium; Correction

AGENCY: Food and Nutrition Service (FNS), USDA.

ACTION: Final rule; technical corrections.

SUMMARY: The Food and Nutrition Service (FNS) is correcting a final rule with request for comments that appeared in the Federal Register on February 7, 2022 and published in the Code of Federal Regulations (CFR) on July 1, 2022. The rule established Child Nutrition Program transitional standards for milk, whole grains, and sodium for school years 2022-23 and 2023-24.

DATES: This correction is effective on July 1, 2022.

FOR FURTHER INFORMATION CONTACT: Tina Namian, Director, School Meals Policy Division—4th Floor, Food and Nutrition Service, 1320 Braddock Place, Alexandria, VA 22314; telephone: 703-305-2590.

SUPPLEMENTARY INFORMATION: In FR Doc. 2022-02327, starting on page 7005 in the Federal Register of Monday, February 7, 2022, the following corrections are made:

§ 210.10 [Corrected]

1. At 7 CFR 210.10(c), the Table 1 To Paragraph (C) Introductory Text—Lunch Meal Pattern is corrected to read as follows:

| Lunch meal pattern: Grades K-5 | Lunch meal pattern: Grades 6-8 | Lunch meal pattern: Grades 9-12
Food components | Amount of Food ᵃ per Week
| (minimum per day)
Fruits (cups) ᵇ | 2½ (½) | 2½ (½) | 5 (1)
Vegetables (cups) ᵇ | 3¾ (¾) | 3¾ (¾) | 5 (1)
Dark green ᶜ | ½ | ½ | ½
Red/Orange ᶜ | ¾ | ¾ | 1¼
Beans and peas (legumes) ᶜ | ½ | ½ | ½
Starchy ᶜ | ½ | ½ | ½
Other ᶜ ᵈ | ½ | ½ | ¾
Additional Vegetables to Reach Total ᵉ | 1 | 1 | 1½
Grains (oz eq) ᶠ | 8-9 (1) | 8-10 (1) | 10-12 (2)
Meats/Meat Alternates (oz eq) | 8-10 (1) | 9-10 (1) | 10-12 (2)
Fluid milk (cups) ᵍ | 5 (1) | 5 (1) | 5 (1)
Other Specifications: Daily Amount Based on the Average for a 5-Day Week
Min-max calories (kcal) ʰ | 550-650 | 600-700 | 750-850
Saturated fat (% of total calories) ʰ | <10 | <10 | <10
Sodium Interim Target 1 (mg) ʰ | ≤1,230 | ≤1,360 | ≤1,420
Sodium Interim Target 1A (mg) ʰ ⁱ | ≤1,110 | ≤1,225 | ≤1,280
Trans fat ʰ | Nutrition label or manufacturer specifications must indicate zero grams of trans fat per serving.
ᵃ Food items included in each group and subgroup and amount equivalents. Minimum creditable serving is ⅛ cup.
ᵇ One quarter-cup of dried fruit counts as ½ cup of fruit; 1 cup of leafy greens counts as ½ cup of vegetables. No more than half of the fruit or vegetable offerings may be in the form of juice. All juice must be 100% full-strength.
ᶜ Larger amounts of these vegetables may be served.
ᵈ This category consists of “Other vegetables” as defined in paragraph (c)(2)(iii)(E) of this section. For the purposes of the NSLP, the “Other vegetables” requirement may be met with any additional amounts from the dark green, red/orange, and beans/peas (legumes) vegetable subgroups as defined in paragraph (c)(2)(iii) of this section.
ᵉ Any vegetable subgroup may be offered to meet the total weekly vegetable requirement.
ᶠ At least 80 percent of grains offered weekly (by ounce equivalents) must meet the whole grain-rich criteria specified in FNS guidance, and the remaining grain items offered must be enriched.
ᵍ All fluid milk must be fat-free (skim) or low-fat (1 percent fat or less). Milk may be unflavored or flavored, provided that unflavored milk is offered at each meal service.
ʰ Discretionary sources of calories (solid fats and added sugars) may be added to the meal pattern if within the specifications for calories, saturated fat, trans fat, and sodium. Foods of minimal nutritional value and fluid milk with fat content greater than 1 percent are not allowed.
ⁱ Sodium Interim Target 1A must be met no later than July 1, 2023 (SY 2023-2024).

§ 220.8 [Corrected]

2. On page 7007, in § 220.8(c), the Table 1 to Paragraph (c) Introductory Text—Breakfast Meal Pattern is corrected to read as follows:

| Breakfast meal pattern: Grades K-5 | Breakfast meal pattern: Grades 6-8 | Breakfast meal pattern: Grades 9-12
Food components | Amount of Food ᵃ per Week
| (minimum per day)
Fruits (cups) ᵇ ᶜ | 5 (1) | 5 (1) | 5 (1)
Vegetables (cups) ᵇ ᶜ | 0 | 0 | 0
Dark green | 0 | 0 | 0
Red/Orange | 0 | 0 | 0
Beans and peas (legumes) | 0 | 0 | 0
Starchy | 0 | 0 | 0
Other | 0 | 0 | 0
Grains (oz eq) ᵈ | 7-10 (1) | 8-10 (1) | 9-10 (2)
Meats/Meat Alternates (oz eq) ᵉ | 0 | 0 | 0
Fluid milk (cups) ᶠ | 5 (1) | 5 (1) | 5 (1)
Other Specifications: Daily Amount Based on the Average for a 5-Day Week
Min-max calories (kcal) ᵍ ʰ | 350-500 | 400-550 | 450-600
Saturated fat (% of total calories) ʰ | <10 | <10 | <10
Sodium Target 1 (mg) ʰ | ≤540 | ≤600 | ≤640
Trans fat ʰ | Nutrition label or manufacturer specifications must indicate zero grams of trans fat per serving.
ᵃ Food items included in each group and subgroup and amount equivalents. Minimum creditable serving is ⅛ cup.
ᵇ One-quarter cup of dried fruit counts as ½ cup of fruit; 1 cup of leafy greens counts as ½ cup of vegetables. No more than half of the fruit or vegetable offerings may be in the form of juice. All juice must be 100% full-strength.
ᶜ Schools must offer 1 cup of fruit daily and 5 cups of fruit weekly. Vegetables may be substituted for fruits, but the first two cups per week of any such substitution must be from the dark green, red/orange, beans/peas (legumes), or “Other vegetables” subgroups, as defined in § 210.10(c)(2)(iii) of this chapter.
ᵈ At least 80 percent of grains offered weekly must meet the whole grain-rich criteria specified in FNS guidance, and the remaining grain items offered must be enriched. Schools may substitute 1 oz. eq. of meat/meat alternate for 1 oz. eq. of grains after the minimum daily grains requirement is met.
ᵉ There is no meat/meat alternate requirement.
ᶠ All fluid milk must be fat-free (skim) or low-fat (1 percent fat or less). Milk may be unflavored or flavored, provided that unflavored milk is offered at each meal service.
ᵍ The average daily calories for a 5-day school week must be within the range (at least the minimum and no more than the maximum values).
ʰ Discretionary sources of calories (solid fats and added sugars) may be added to the meal pattern if within the specifications for calories, saturated fat, trans fat, and sodium. Foods of minimal nutritional value and fluid milk with fat content greater than 1 percent milk fat are not allowed.

Cynthia Long,
Administrator, Food and Nutrition Service.

[FR Doc. 2022-16466 Filed 8-2-22; 8:45 am]

BILLING CODE 3410-30-P